DEPARTMENT OF THE INTERIOR

Bureau of Land Management

[LLNM006220 L99110000.EK0000]

Renewal of Approved Information Collection, OMB Control Number 1004-0179

AGENCY: Bureau of Land Management, Interior.

ACTION: 60-Day notice and request for comments.

SUMMARY: In compliance with the Paperwork Reduction Act of 1995, the Bureau of Land Management (BLM) announces its intention to request that the Office of Management and Budget (OMB) renew its approval to collect helium sales information from helium suppliers. This information collection activity was previously approved by the OMB, and assigned control number 1004-0179.

DATES: Please submit your comments to the BLM at the address below on or before August 13, 2010.

ADDRESSES: You may mail comments to: U.S. Department of the Interior, Bureau of Land Management, Mail Stop 401-LS, 1849 C St., NW., Washington, DC 20240, Attention: 1004-0179. You may also send comments to Jean Sonneman by fax at 202-912-7102, or by e-mail at: Jean_Sonneman@blm.gov.

FOR FURTHER INFORMATION CONTACT: You may contact Leslie Theiss, at 806-356-1002. Persons who use a telecommunication device for the deaf (TDD) may call the Federal Information Relay Service (FIRS) at 1-800-877-8339, to contact Ms. Theiss. You may also contact Ms. Theiss to obtain a copy, at no cost, of the regulations pertaining to this collection of information.

SUPPLEMENTARY INFORMATION: OMB regulations at 5 CFR part 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR part 3195. The BLM will request that the OMB approve this information collection activity for a 3-year term.

Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the BLM's submission of the information collection request to OMB.

The following information is provided for the information collection:

Title: Helium Contracts (43 CFR part 3195).

OMB Control Number: 1004-0179.

Summary: This collection of information pertains to the Helium Privatization Act of 1996, which provides that only authorized contractors may sell helium to Federal agencies. The BLM uses this information to verify that authorized contractors are in compliance with the Helium Privatization Act.

In order to become an authorized contractor, a helium supplier must enter into an In-Kind Crude Helium Sales Contract to purchase from the Secretary of the Interior amounts of crude helium that are equivalent to amounts the supplier sells to agencies of the Federal Government. 50 U.S.C. 167d. Additional information collection and recordkeeping requirements apply to deliveries, purchases, and uses of helium.

In the past, the BLM has provided Form 1422X-922 as a convenience for respondents to comply with some of these requirements, but the pertinent regulations do not require that they use that form. In the BLM's experience, Form 1422X-922 has been of little practical utility—typically, respondents have demonstrated compliance with the Helium Privatization Act without using the form, and the BLM has found that the form is not necessary in order to collect the necessary information. The BLM is considering eliminating Form 1422X-922, although the BLM will continue to require respondents to submit pertinent information through written or electronic means as required by 43 CFR part 3195.

Frequency of Collection: Quarterly, annually, and on occasion.

Estimated Number and Description of Respondents: Eight authorized contractors.

Currently Approved Reporting and Recordkeeping “Hour” Burden: The currently approved annual reporting burden is 40 responses and 160 hours.

Currently Approved Reporting and Recordkeeping “Non-Hour Cost” Burden: $0.

The Paperwork Reduction Act (44 U.S.C. 3501, et seq.) provides that an agency may not conduct or sponsor a collection of information unless it displays a currently valid OMB control number. Until OMB approves a collection of information, you are not obligated to respond.

The BLM will summarize all responses to this notice and include them in the request for OMB approval. All comments will become a matter of public record. Before including your address, phone number, email address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-14212 Filed 6-11-10; 8:45 am]

BILLING CODE 4310-84-P